DEPARTMENT OF LABOR

Employment and Training Administration

[TA-W-50,853]

O.K. Industries Incorporated, Fort Smith, AR; Notice of Termination of Investigation

Pursuant to section 221 of the Trade Act of 1974, as amended, an investigation was initiated on February 11, 2003 in response to a worker petition filed by a state dislocated worker unit on behalf of workers at O.K. Industries, Inc., Ft. Smith, Arkansas.

The petitioners have requested that the petition be withdrawn. Consequently, the investigation has been terminated.

Signed at Washington, DC, this 17th day of March 2003.
Linda G. Poole,
Certifying Officer, Division of Trade Adjustment Assistance.

[FR Doc. 03-7908 Filed 4-1-03; 8:45 am]

BILLING CODE 4510-30-U